Title 3—

The President

Proclamation 7819 of September 21, 2004

National Employer Support of the Guard and Reserve Week, 2004

By the President of the United States of America

A Proclamation

Throughout our history, the members of the National Guard and Reserve have served our country with honor. Our Nation depends on the dedication of these citizen-soldiers, and our Guardsmen and Reservists rely on the support of their civilian employers to allow them to fulfill their service obligations. During National Employer Support of the Guard and Reserve Week, we honor the sacrifice of these brave men and women, and we express our gratitude for the commitment of their employers.

As we fight terror and advance freedom, members of the National Guard and Reserve are making vital contributions around the world as fully integrated components of our Nation's Armed Forces. At home, they are called on to protect our communities, preserve order, and provide assistance in times of natural disaster, balancing the demands of their families, civilian careers, and military commitments. These Guardsmen and Reservists are indispensable to our Nation's efforts to promote democracy, peace, and freedom around the world, and we salute their selfless service.

Employers also play a critical role in our Nation's defense, demonstrating their patriotism by supporting the training and mobilization of these brave individuals. Across America, business owners, school personnel, hospital administrators, and many others put our country's safety and security first when they provide time off, pay, health care benefits, and job security to their Guard and Reserve employees. These sacrifices help strengthen our country and allow our men and women in uniform to focus on the missions at hand. The generosity and public spirit of these employers have earned them the appreciation of our Nation.

NOW, THEREFORE, I, GEORGE W. BUSH, President of the United States of America, by virtue of the authority vested in me by the Constitution and laws of the United States, do hereby proclaim September 26 through October 2, 2004, as National Employer Support of the Guard and Reserve Week. I encourage all Americans to join me in expressing our thanks to the civilian employers and the members of our National Guard and Reserve for their patriotism and sacrifices on behalf of our Nation. I also call upon State and local officials, private organizations, businesses, and all military commanders to observe this week with appropriate ceremonies and activities.

IN WITNESS WHEREOF, I have hereunto set my hand this twenty-first day of September, in the year of our Lord two thousand four, and of the Independence of the United States of America the two hundred and twenty-ninth.

B

[FR Doc. 04-21621

Filed 9-23-04; 8:45 am]

Billing code 3195-01-P